INTERNATIONAL TRADE COMMISSION

[Inv. No. 337-TA-433]

Certain Safety Eyewear and Components Thereof; Notice of Commission Decision Not To Review an Initial Determination Amending the Complaint and Notice of Investigation

AGENCY: U.S. International Trade Commission.

ACTION: Notice.

SUMMARY: Notice is hereby given that the U.S. International Trade Commission has decided not to review the presiding administrative law judge's (“ALJ's”) initial determination (“ID”) granting an unopposed motion to amend the complaint and notice of investigation to delete references to “claim 18” of U.S. Letters Patent 5,457,505.

FOR FURTHER INFORMATION CONTACT: Gracemary Rizzo, Office of the General Counsel, U.S. International Trade Commission, 500 E Street, S.W., Washington, D.C. 20436, telephone (202) 205-3117. Hearing-impaired persons are advised that information on this matter can be obtained by contacting the Commission's TDD terminal on 202-205-1810. General information concerning the Commission may also be obtained by accessing its Internet server (http://www.usitc.gov).

SUPPLEMENTARY INFORMATION: The Commission instituted this investigation on May 1, 2000, based on a complaint filed by Bacou USA Safety, Inc. and Uvex Safety Manufacturing, Inc. (“complainants”), both of Smithfield, Rhode Island. The complaint named one respondent, Crews, Inc. of Memphis, Tennessee.

Complainants alleged that respondent had violated section 337 of the Tariff Act of 1930 by importing into the United States, selling for importation, and/or selling within the United States after importation certain safety eyewear and components thereof by reason of (a) infringement of claims 1-5, 8-14, and 16-18 of U.S. Letters Patent 5,457,505 (the ’505 patent); (b) the claim of U.S. Letters Patent Des. 322,616; and (c) misappropriation of trade dress, the threat or effect of which is to destroy or substantially injure an industry in the United States.

On May 17, 2000, complainants filed an unopposed motion to amend the complaint and notice of investigation to delete “claim 18” of the ’505 patent. In their motion, complainants stated that the ’505 patent has only 17 claims and that references to “claim 18” were due to a typographical error.

On May 18, 2000, the presiding ALJ issued an ID (Order No. 4) granting complainants' motion. The ALJ found that there was good cause for the amendment, and that there was no prejudice to the parties or to the public interest. Accordingly, the complaint and the notice of investigation were amended to delete all references to “claim 18” of the ’505 patent.

The authority for the Commission's determination is contained in section 337 of the Tariff Act of 1930, as amended (19 U.S.C. 1337), and in section 210.42 of the Commission's Rules of Practice and Procedure (19 CFR 210.42). Copies of the ALJ's ID and all other nonconfidential documents filed in connection with this investigation are or will be available for inspection during official business hours (8:45 a.m. to 5:15 p.m.) in the Office of the Secretary, U.S. International Trade Commission, 500 E Street, S.W., Washington, D.C. 20436, telephone 202-205-2000.

Issued: June 5, 2000.
By order of the Commission.
Donna R. Koehnke,
Secretary.

[FR Doc. 00-14759 Filed 6-9-00; 8:45 am]

BILLING CODE 7020-02-U